DEPARTMENT OF COMMERCE

National Oceanic and Atmospheric Administration

RIN 0648-XR76

Marine Mammals; File No. 605-1904

AGENCY: National Marine Fisheries Service (NMFS), National Oceanic and Atmospheric Administration (NOAA), Commerce.

ACTION: Notice; issuance of permit amendment.

SUMMARY: Notice is hereby given that the Whale Center of New England (WCNE), [Mason Weinrich, Principal Investigator], P.O. Box 159, Gloucester, MA 01930, has been issued an amendment to scientific research Permit No. 605-1904.

ADDRESSES: The amendment and related documents are available for review upon written request or by appointment in the following offices:

Permits, Conservation and Education Division, Office of Protected Resources, NMFS, 1315 East-West Highway, Room 13705, Silver Spring, MD 20910; phone (301)713-2289; fax (301)713-0376;

Northeast Region, NMFS, 55 Great Republic Drive, Gloucester, MA 01930; phone (978)281-9300; fax (978)281-9333; and

Southeast Region, NMFS, 263 13th Avenue South, Saint Petersburg, Florida 33701; phone (727)824-5312; fax (727)824-5309.

FOR FURTHER INFORMATION CONTACT: Amy Hapeman or Kristy Beard, (301)713-2289.

SUPPLEMENTARY INFORMATION: On August 4, 2008, notice was published in the Federal Register (73 FR 45217) that an amendment to Permit No. 605-1904, issued February 21, 2008 (73 FR 10744), had been requested by the above-named organization. The requested amendment has been granted under the authority of the Marine Mammal Protection Act of 1972, as amended (16 U.S.C. 1361 et seq.), the regulations governing the taking and importing of marine mammals (50 CFR part 216), the Endangered Species Act of 1973, as amended (ESA; 16 U.S.C. 1531 et seq.), and the regulations governing the taking, importing, and exporting of endangered and threatened species (50 CFR parts 222-226).

Permit No. 605-1904 authorizes the WCNE to harass humpback (Megaptera novaengliae), fin (Balaenoptera physalus), and sei (Balaenoptera borealis) whales along the U.S. Atlantic coast during close approaches for vessel surveys, photo-identification, tracking, and incidental harassment annually. During approaches, researchers may suction-cup tag and/or biopsy sample whales greater than six months of age. A subset of approached humpback and fin whale calves three to six months of age may also be biopsy sampled. This amendment authorizes the WCNE to harass up to 75 North Atlantic right whales (Eubalaena glacialis) annually during close vessel approaches for photo-identification, behavioral observation, and prey sampling. This work would continue long-term population monitoring to determine status and trends of this species in the North Atlantic. The amendment is valid until the permit expires on February 15, 2013.

In compliance with the National Environmental Policy Act of 1969 (42 U.S.C. 4321 et seq.), an environmental assessment was prepared analyzing the effects of the permitted activities. After a Finding of No Significant Impact, the determination was made that it was not necessary to prepare an environmental impact statement.

Issuance of this permit, as required by the ESA, was based on a finding that such permit: (1) was applied for in good faith; (2) will not operate to the disadvantage of such endangered species; and (3) is consistent with the purposes and policies set forth in section 2 of the ESA.

Dated: September 18, 2009.
P. Michael Payne,
Chief, Permits, Conservation and Education Division, Office of Protected Resources, National Marine Fisheries Service.

[FR Doc. E9-23065 Filed 9-23-09; 8:45 am]

BILLING CODE 3510-22-S